DEPARTMENT OF TRANSPORTATION

Federal Aviation Administration

14 CFR Part 39

[Docket No. FAA-2013-0752; Product Identifier 2009-SW-44-AD]

RIN 2120-AA64

Airworthiness Directives; Pacific Scientific Company Seat Restraint System Rotary Buckle Assemblies

AGENCY: Federal Aviation Administration (FAA), DOT.

ACTION: Supplemental notice of proposed rulemaking (SNPRM); reopening of comment period.

SUMMARY: The FAA is reopening the comment period for an earlier proposed rulemaking (NPRM) for certain Pacific Scientific Aviation Services seat restraint rotary buckle assemblies (buckles). The NPRM proposed to require inspecting each buckle and buckle handle vane, and depending on the inspection results, removing the buckle from service and installing an airworthy buckle. The NPRM also proposed to prohibit the installation of the affected buckles. The NPRM was prompted by several reports of cracked buckle handles. This action reopens the comment period because a significant amount of time has elapsed since the NPRM was published. Additionally, this action clarifies the applicability and updates nomenclature, contact information, and the design approval holder's (DAH) name.

DATES: The FAA must receive comments on this SNPRM by November 9, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2013-0752; or in person at Docket Operations between 9 a.m. and 5 p.m., Monday through Friday, except Federal holidays. The AD docket contains this AD, the European Aviation Safety Agency (now European Union Aviation Safety Agency) (EASA) AD, any comments received, and other information. The street address for Docket Operations is listed above. Comments will be available in the AD docket shortly after receipt.

For Pacific Scientific Company service information identified in this proposed rule, contact Meggitt Services, 1785 Voyager Ave., Simi Valley, CA 93063, telephone 877-666-0712 or at CustomerResponse@meggitt.com. You may view the referenced service information at the FAA, Office of the Regional Counsel, Southwest Region, 10101 Hillwood Pkwy, Room 6N-321, Fort Worth, TX 76177.

FOR FURTHER INFORMATION CONTACT: Kristi Bradley, Aviation Safety Engineer, International Validation Branch, General Aviation and Rotorcraft Unit, FAA, 10101 Hillwood Pkwy., Fort Worth, TX 76177; telephone 817-222-5110; email kristin.bradley@faa.gov.

SUPPLEMENTARY INFORMATION:

Comments Invited

The FAA invites you to participate in this rulemaking by submitting written comments, data, or views. The most helpful comments reference a specific portion of the proposal, explain the reason for any recommended change, and include supporting data. To ensure the docket does not contain duplicate comments, commenters should send only one copy of written comments, or if comments are filed electronically, commenters should submit only one time.

Except for Confidential Business Information (CBI) as described in the following paragraph, and other information as described in 14 CFR 11.35, the FAA will file in the docket all comments received, as well as a report summarizing each substantive public contact with FAA personnel concerning this proposed rulemaking. Before acting on this proposal, the FAA will consider all comments received on or before the closing date for comments. The FAA will consider comments filed after the comment period has closed if it is possible to do so without incurring expense or delay. The FAA may change this proposal in light of the comments received.

Confidential Business Information

Confidential Business Information (CBI) is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Kristi Bradley, Aviation Safety Engineer, International Validation Branch, General Aviation and Rotorcraft Unit, FAA, 10101 Hillwood Pkwy., Fort Worth, TX 76177; telephone 817-222-5110; email kristin.bradley@faa.gov. Any commentary that the FAA receives which is not specifically designated as CBI will be placed in the public docket for this rulemaking.

Discussion

On September 5, 2013, at 78 FR 54594, the FAA published in the Federal Register an NPRM which proposed to amend 14 CFR part 39 by adding an AD that would apply to buckles, part number (P/N) 1111430 or 1111475, all dash numbers, installed on but not limited to Cessna Aircraft Company, de Havilland, Inc. (Type Certificate (TC) currently held by Viking Air Limited), and Learjet Inc. model airplanes and Eurocopter France model helicopters. The NPRM proposed to require, within 30 days, inspecting each buckle for a crack and replacing any cracked buckle with an airworthy buckle. Also, within 6 months, the NPRM proposed to require inspecting the thickness of the buckle handle vane and replacing any buckle with a handle vane thickness of 0.125 inch or greater. Lastly, the NPRM proposed to prohibit installing an affected buckle on any airplane or helicopter. The proposed requirements were intended to detect a cracked rotary buckle handle, which could prevent a strap from releasing as intended when the buckle is rotated.

The NPRM was prompted by EASA AD No. 2007-0256, dated September 19, 2007, issued by EASA, which is the Technical Agent for the Member States of the European Union, to correct an unsafe condition for certain Pacific Scientific Company Seat Restraint System Plastic Rotary Buckle Handles. According to EASA, Pacific Scientific Company reports several instances of cracked handles on certain buckles with a date of manufacture from November 2004 through May 2007. Testing on buckles with a cracked handle indicates that in some circumstances, a load placed on the restraint system prevents a strap from releasing as intended when the buckle is rotated. EASA states that these circumstances are possible when a passenger weighs more than 50 kg (approximately 110 lbs.) and an aircraft is upside down.

Actions Since the NPRM Was Issued

Since the FAA issued the NPRM, a significant amount of time has elapsed requiring the FAA to reopen the comment period to allow the public a chance to comment on the proposed actions. These actions are intended to prevent a buckle from not releasing the restraint system strap in an emergency.

The FAA is also correcting the name of Pacific Scientific Aviation Services to Pacific Scientific Company in this SNPRM.

Comments

After the NPRM was published, the FAA received comments from one commenter. The following presents the comments received on the NPRM and the FAA's response to each comment.

Request

The commenter stated that buckle P/Ns 1111430-11 and 1111460-13 are fitted for certain Bombardier Inc., Model CL-600-2B19 aircraft and requested that the FAA include these aircraft in the Applicability because it would be helpful when performing records research and audits. The FAA partially agrees. Buckle P/N 1111430-11 is captured by the Applicability; however, buckle P/N 1111460-13 is not known to be affected by this unsafe condition and therefore is not included in the Applicability. Further, while the list of airplanes and helicopters in the Applicability that could have an affected buckle installed is not all-inclusive, the FAA has added Bombardier Inc., as a possible airplane on which an affected buckle could be installed.

The commenter also stated that Appendix 1 of Pacific Scientific Service Bulletin SB 25-1111432, dated May 22, 2007 (SB 25-1111432) lists P/Ns of affected buckles and restraint systems, and that affected part-numbered buckles may be in inventory with restraint system subassemblies (straps and belts) and on spare seat assemblies. The commenter requested the FAA require checking these inventories to determine if they need to be inspected. The FAA partially agrees. The FAA agrees that affected part-numbered buckles must be inspected and that they may be found as a component of a different part-numbered restraint system assembly. Accordingly, the FAA has added a note to the Applicability paragraph to clarify that an affected part-numbered buckle may be included as a component of a different part-numbered restraint system assembly and added a reference to Appendix 1 of SB 25-1111432, which lists the P/Ns of potentially affected restraint systems. To address spare parts, the proposed AD contains an installation prohibition so that affected parts in inventory will not become installed on any aircraft.

The commenter noted that the NPRM proposed to require replacing affected buckles and requested that the FAA allow replacing a restraint system or subassembly with a restraint system or subassembly containing an airworthy buckle as an acceptable method of compliance. The FAA agrees with the comment, but does not agree that a change to this AD action is necessary. Replacing a restraint system or subassembly that contains an airworthy buckle inherently meets the requirement to replace an affected buckle with an airworthy buckle.

The commenter stated that it will be difficult to maintain a record of compliance since this is an appliance AD for a non-serialized component and spare buckles are affected. Although neither the service information nor the NPRM suggest marking or serializing buckles, the commenter requested the FAA require doing so as a method to ensure solid compliance recordkeeping. The FAA disagrees. The Applicability includes the part-numbered buckles affected by the unsafe condition and the FAA appreciates the importance of compliance recordkeeping. However, serializing buckles for the purpose of compliance with this AD would create unnecessary costs and internal controls by maintainers and operators are expected to be used to ensure AD compliance.

The commenter stated that SB 25-1111432, which is referenced in the Related Service Information section of the NPRM, provides a link to an out of date revision of the component maintenance manual (CMM) and that the revised CMM includes an Illustrated Parts Catalog list. The commenter did not request a change to the proposed AD. The FAA acknowledges that the link in paragraph 4 of SB 25-1111432 is out of date, but that portion of SB 25-1111432 is not required to accomplish this AD.

Lastly, the commenter stated that considering SB 25-1111432 was issued several years ago, there appears to be a lack of urgency. The commenter requested that the FAA increase the compliance time for performing the inspection for cracks from 30 days to 6 months and the compliance time for performing the buckle handle vane measurement from 6 months to 1 year. The FAA agrees and has made these changes accordingly in this SNPRM.

FAA's Determination

This product has been approved by EASA and is approved for operation in the United States. Pursuant to the FAA's bilateral agreement with the European Union, EASA has notified the FAA of the unsafe condition described in its AD. The FAA is proposing this SNPRM after evaluating all known relevant information and determining that an unsafe condition exists and is likely to exist or develop on other products. Because of the amount of time that has elapsed since the NPRM was issued, the FAA has determined that it is necessary to reopen the comment period to provide additional opportunity for the public to comment. This SNPRM incorporates the changes described previously as well as the following:

• Minor editorial changes,

• update of the estimated costs to comply with this proposed AD,

• clarification of the Applicability paragraph by stating buckle P/Ns 1111430 “and” 1111475 instead of buckle P/Ns 1111430 “or” 1111475,

• update of Cessna Aircraft Company's name to Textron Aviation, Inc., and Eurocopter France's name to Airbus Helicopters, and

• update of the contact information name from Pacific Scientific Aviation Services to Meggitt Services, as well as the contact information.

Additionally, since the FAA issued the NPRM, the FAA's Aircraft Certification Service has changed its organization structure. The new structure replaces product directorates with functional divisions. The FAA has revised some of the office titles and nomenclature throughout this SNPRM to reflect the new organizational changes. Additional information about the new structure can be found in the Notice published on July 25, 2017 (82 FR 34564).

Related Service Information Under 1 CFR Part 51

The FAA reviewed SB 25-1111432. This service information specifies inspecting each buckle P/Ns 1111430-XX and 1111475-XX with a date of manufacture between November 2004 and May 2007, to identify whether the handle is one susceptible to cracking by checking the P/N on the reverse side of the buckle assembly or by measuring the thickness of the handle vane. If the buckle is identified as a “suspect” buckle, the service information provides procedures for removing the buckle and replacing it with an acceptable buckle. Information in the service information also advises that buckles with a cracked handle should be removed from service immediately.

This service information is reasonably available because the interested parties have access to it through their normal course of business or by the means identified in the ADDRESSES section.

Proposed Requirements of This SNPRM

This proposed AD would require, within 6 months, inspecting each buckle for a crack, and within 12 months, inspecting the thickness of the buckle handle vane. If there is a crack or the handle vane thickness is 0.125 inch or greater, this proposed AD would require removing the buckle from service and replacing it with an airworthy buckle. This proposed AD would also prohibit installing an affected buckle on any airplane or helicopter.

Differences Between This Proposed AD and the EASA AD

The EASA AD applies to certain Eurocopter (now Airbus Helicopters) model helicopters only. Since the affected buckles may be installed in other aircraft resulting in the same unsafe condition, this proposed AD would also apply to those aircraft. This proposed AD would not require returning the unairworthy buckle assembly to the manufacturer, and this proposed AD would not apply to “spare” parts that are not installed on an aircraft. Also, this proposed AD would apply to buckle P/Ns 1111430 and 1111475, all dash numbers, and would not be dependent on the restraint P/Ns. The EASA AD requires inspecting the buckles within 30 days, whereas this proposed AD would require inspecting the buckle handle for a crack within 6 months and the buckle handle vane thickness within 12 months instead. This proposed AD would not require an inspection for cracks “before any flight” for the 6 months until the affected buckles are replaced. The EASA AD identifies suspect parts by date of manufacture, and this proposed AD would not. Finally, the EASA AD allows for marking a seat as “un-operative” and this proposed AD would not.

Costs of Compliance

The FAA estimates that this proposed AD would affect 1,435 restraint systems installed on aircraft of U.S. Registry. The FAA estimates that operators may incur the following costs in order to comply with this proposed AD. Labor costs are estimated at $85 per work-hour.

Inspecting a buckle would cost a minimal amount and take a nominal amount of time. Replacing a buckle would take about 0.5 work-hour and parts would cost about $636 for an estimated cost of $679 per buckle and $974,365 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pacific Scientific Company: Docket No. FAA-2013-0752; Product Identifier 2009-SW-44-AD.

(a) Applicability

This AD applies to Pacific Scientific Company rotary buckle assembly (buckle), part numbers (P/Ns) 1111430 and 1111475, all dash numbers. These buckles may be installed on but not limited to Bombardier Inc., Learjet Inc., Textron Aviation, Inc. (Type Certificate (TC) previously held by Cessna Aircraft Company), and Viking Air Limited (TC previously held by de Havilland, Inc.) model airplanes and Airbus Helicopters (TC previously held by Eurocopter France) model helicopters, certificated in any category.

Note 1 to paragraph (a): The rotary buckle may be included as a component of a different part-numbered restraint system assembly. Pacific Scientific Service Bulletin SB 25-1111432, dated May 22, 2007 (SB 25-1111432), Appendix 1, includes a list of these restraint system P/Ns.

(b) Unsafe Condition

This AD defines the unsafe condition as a cracked rotary buckle handle, which could prevent a strap from releasing as intended when the buckle is rotated.

(c) Comments Due Date

The FAA must receive comments on this SNPRM November 9, 2020.

(d) Compliance

You are responsible for performing each action required by this AD within the specified compliance time unless it has already been accomplished prior to that time.

(e) Required Actions

(1) Within 6 months, inspect the buckle handle for a crack. If the buckle handle is cracked, before further flight, remove the buckle as depicted in Figure 5 and by following the Procedures, paragraph 9, of SB 25-1111432, and replace it with an airworthy buckle, except you are not required to return the removed buckle to Pacific Scientific.

(2) Within 12 months, measure the thickness of the buckle handle vane as depicted in Figure 3 of SB 25-1111432. If the handle vane thickness is 0.125 inch or greater, before further flight, remove the buckle from service and replace it with an airworthy buckle.

(3) As of the effective date of this AD, do not install a buckle or a restraint system with a buckle, P/N 1111430 or 1111475, all dash numbers, with a handle vane thickness of 0.125 inch or greater on any airplane or helicopter.

(f) Alternative Methods of Compliance (AMOCs)

(1) The Manager, International Validation Branch, FAA, may approve AMOCs for this AD. Send your proposal to: Kristi Bradley, Aviation Safety Engineer, International Validation Branch, General Aviation and Rotorcraft Unit, FAA, 10101 Hillwood Pkwy., Fort Worth, TX 76177; telephone 817-222-5110; email kristin.bradley@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(g) Additional Information

The subject of this AD is addressed in European Aviation Safety Agency (now European Union Aviation Safety Agency) (EASA) AD No. 2007-0256, dated September 19, 2007. You may view the EASA AD on the internet at https://www.regulations.gov in Docket No. FAA-2013-0752.

(h) Subject

Joint Aircraft Service Component (JASC) Code: 2500, Cabin Equipment/Furnishings.

Issued on September 14, 2020.
Lance T. Gant,
Director, Compliance & Airworthiness Division, Aircraft Certification Service.

[FR Doc. 2020-20624 Filed 9-23-20; 8:45 am]

BILLING CODE 4910-13-P